DEPARTMENT OF ENERGY

Federal Energy Regulatory Commission

[Docket No. AD23-3-000]

Establishing Interregional Transfer Capability Transmission Planning and Cost Allocation Requirements; Supplemental Notice of Staff-Led Workshop

As announced in the Notice of Staff-Led Workshop issued in this proceeding on October 6, 2022, Federal Energy Regulatory Commission (Commission) staff will convene a workshop to discuss whether and how the Commission could establish a minimum requirement for Interregional Transfer Capability for public utility transmission providers in transmission planning and cost allocation processes on December 5 and 6, 2022, from approximately 12:00 p.m. to 5:00 p.m. Eastern Time.

The purpose of this workshop is to consider the question of whether and how to establish a minimum requirement for Interregional Transfer Capability. Topics for discussion may include: how to determine the need for and benefit of setting a minimum requirement for Interregional Transfer Capability; what to consider in establishing a potential Interregional Transfer Capability requirement, including who would be responsible for determining a minimum Interregional Transfer Capability requirement and what would be the objective and drivers of such a requirement; what process could be used in establishing a minimum Interregional Transfer Capability requirement to determine key data inputs, modeling techniques, and relevant metrics; and how costs for transmission facilities intended to increase Interregional Transfer Capability should be allocated and how to ensure a minimum amount of Interregional Transfer Capability is achieved and maintained.

While the workshop is not for the purpose of discussing any specific matters before the Commission, some workshop discussions may involve issues raised in proceedings that are currently pending before the Commission. These proceedings include, but are not limited to:

| Docket Nos.
Invenergy Transmission LLC | AD22-13-000.
Invenergy Transmission LLC v. Midcontinent Independent System Operator, Inc | EL22-83-000.
SOO Green HVDC Link ProjectCo, LLC v. PJM Interconnection, LLC | EL21-85-000, EL21-103-000.
PPL Electric Utilities Corporation, PJM Interconnection, L.L.C | ER22-2690-000, ER22-2690-001.
Appalachian Power Company, PJM Interconnection, L.L.C | ER19-2105-005.
Neptune Regional Transmission System, LLC and Long Island Power Authority v. PJM Interconnection, L.L.C | EL21-39-000.
WestConnect Public Utilities | ER22-1105-000.
PPL Electric Utilities Corporation | ER22-1606-000.
Southwest Power Pool, Inc | ER22-1846-000.

Attached to this Supplemental Notice is an agenda for the workshop, which includes the workshop program and expected panelists.

Panelists are asked to submit advance materials to provide any information related to their respective panel (e.g., summary statements, reports, whitepapers, studies, or testimonies) that panelists believe should be included in the record of this proceeding by November 21, 2022. Panelists should file all advance materials in the AD23-3-000 docket.

The workshop will take place virtually, with remote participation from both presenters and attendees. The workshop will be open to the public and there is no fee for attendance. Information will also be posted on the Calendar of Events on the Commission's website, www.ferc.gov, prior to the event.

The workshop will be transcribed and webcast. Transcripts will be available for a fee from Ace Reporting (202-347-3700). A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Commission workshops are accessible under section 508 of the Rehabilitation Act of 1973. For accessibility accommodations, please send an email to accessibility@ferc.gov, call toll-free (866) 208-3372 (voice) or (202) 208-8659 (TTY), or send a fax to (202) 208-2106 with the required accommodations.

For more information about this workshop, please contact Jessica Cockrell at jessica.cockrell@ferc.gov or (202) 502-8190. For information related to logistics, please contact Sarah McKinley at sarah.mckinley@ferc.gov or (202) 502-8368.

Dated: November 18, 2022.
Kimberly D. Bose,
Secretary.

[FR Doc. 2022-25717 Filed 11-23-22; 8:45 am]

BILLING CODE 6717-01-P